DEPARTMENT OF DEFENSE

Office of the Secretary

Vietnam War Commemoration Advisory Committee; Notice of Federal Advisory Committee Meeting

AGENCY: DoD.

ACTION: Meeting notice.

SUMMARY: The Department of Defense is publishing this notice to announce the following Federal advisory committee meeting of the Vietnam War Commemoration Advisory Committee. This meeting is open to the public.

DATES: The public meeting of the Vietnam War Commemoration Advisory Committee (hereafter referred to as “the Committee”) will be held on Friday, June 3, 2016. The meeting will begin at 1:00 p.m. and end at 4:00 p.m.

ADDRESSES: U.S. Access Board Conference Room, 1331 F Street NW., Suite 1000, Washington, DC 20004.

FOR FURTHER INFORMATION CONTACT: Committee's Designated Federal Officer: The committee's Designated Federal Officer is Mr. Michael Gable, Vietnam War Commemoration Advisory Committee, 241 18th Street South, Arlington VA 22202, michael.l.gable.civ@mail.mil, 703-697-4811. For meeting information please contact Mr. Michael Gable, michael.l.gable.civ@mail.mil, 703-697-4811; Mr. Mark Franklin, mark.r.franklin.civ@mail.mil, 703-697-4849; or Ms. Scherry Chewning, scherry.l.chewning.civ@mail.mil, 703-697-4908.

SUPPLEMENTARY INFORMATION: This meeting is being held under the provisions of the Federal Advisory Committee Act of 1972 (5 U.S.C., Appendix, as amended), the Government in the Sunshine Act of 1976 (5 U.S.C. 552b, as amended), and 41 CFR 102-3.150.

Purpose of the Meeting: At this meeting, the Committee will convene and receive a series of updates on the Vietnam War Commemoration. The mission of the Committee is to provide the Secretary of Defense, through the Director of Administration and Management (DA&M), independent advice and recommendations regarding major events and priority of efforts during the commemorative program for the 50th Anniversary of the Vietnam War, in order to achieve the objectives for the Commemorative Program.

Availability of Materials for the Meeting: A copy of the agenda for the Committee may be obtained from the Committee's Web site at http://vietnamwar50th.com. Copies will also be available at the meeting.

Meeting Agenda

1:00 p.m.-1:10 p.m. Convene with Committee Chairman Remarks

1:10 p.m.-4:00 p.m. Committee Meeting/Agenda items

• Commemoration Program Update

• Communications Working Group Presentation to Full Federal Advisory Committee

• Deliberation on Communications Working Group Recommendation

• Closing remarks

4:00 p.m. Adjourn

Public's Accessibility to the Meeting: Pursuant to 5 U.S.C. 552b and 41 CFR 102-3.140 through 102-3.165, and the availability of space, this meeting is open to the public. All members of the public who wish to attend the public meeting must contact Mr. Michael Gable, Mr. Mark Franklin or Ms. Scherry Chewning at the number listed in the FOR FURTHER INFORMATION CONTACT section.

Special Accommodations: Individuals requiring special accommodations to access the public meeting should contact Mr. Michael Gable, Mr. Mark Franklin or Ms. Scherry Chewning at the number listed in the FOR FURTHER INFORMATION CONTACT section at least five (5) business days prior to the meeting so that appropriate arrangements can be made.

Procedures for Providing Public Comments: Pursuant to 41 CFR 102-3.105(j) and 102-3.140, and section 10(a)(3) of the Federal Advisory Committee Act of 1972, the public or interested organizations may submit written comments to the Committee about its mission and topics pertaining to this public meeting.

Written comments should be received by the DFO at least five (5) business days prior to the meeting date so that the comments may be made available to the Committee for their consideration prior to the meeting. Written comments should be submitted via email to the address for the DFO given in the FOR FURTHER INFORMATION CONTACT section in either Adobe Acrobat or Microsoft Word format. Please note that since the Committee operates under the provisions of the Federal Advisory Committee Act, as amended, all submitted comments and public presentations will be treated as public documents and will be made available for public inspection, including, but not limited to, being posted on the Committee's Web site.

Dated: May 12, 2016.
Aaron Siegel,
Alternate OSD Federal Register Liaison Officer, Department of Defense.

[FR Doc. 2016-11666 Filed 5-17-16; 8:45 am]

BILLING CODE 5001-06-P